FEDERAL COMMUNICATIONS COMMISSION

47 CFR Part 73

[DA 04-1080; MM Docket No. 00-148; RM-9939, RM-10198]

Radio Broadcasting Services; Archer City, TX, Ardmore, OK, Converse, TX, Durant, OK, Elk City, OK, Flatonia, TX, Georgetown, TX, Healdton, OK, Ingram, TX, Keller, TX, Knox City, TX, Lakeway, TX, Lago Vista, TX, Lawton, OK, Llano, TX, McQueeney, TX, Nolanville, TX, Purcell, OK, Quanah, San Antonio, Seymour, Waco, and Wellington, TX

AGENCY: Federal Communications Commission.

ACTION: Final rule, denial of petition for reconsideration.

SUMMARY: This document denies a Petition for Partial Reconsideration and Request for Expedited Action filed by Rawhide Radio, L.L.C., Capstar TX Limited Partnership and Clear Channel Broadcast Licenses, Inc. See 68 FR 26557, published May 16, 2003. With this action, the proceeding is terminated.

FOR FURTHER INFORMATION CONTACT: Robert Hayne, Media Bureau, (202) 418-2177

SUPPLEMENTARY INFORMATION: This is a synopsis of the Commission's Memorandum Opinion and Order in MM Docket No. 00-148, adopted April 22, 2004, and released April 27, 2004. The full text of this decision is available for inspection and copying during normal business hours in the FCC's Reference Information Center at Portals II, CY-A257, 445 12th Street, SW., Washington, DC 20554. The complete text of this decision may also be purchased from the Commission's copy contractor, Qualex International, Portals II, 445 12th Street, SW., Room CY-B402, Washington, DC 20554, telephone 202-863-2893, facsimile 202-863-2898, or via e-mail qualexint@aol.com. This document is not subject to the Congressional Review Act.

List of Subjects in 47 CFR Part 73

Radio Broadcasting.

Federal Communications Commission.
John A. Karousos,
Assistant Chief, Audio Division, Media Bureau.

[FR Doc. 04-11551 Filed 5-20-04; 8:45 am]

BILLING CODE 6712-01-P